SOCIAL SECURITY ADMINISTRATION

Agency Information Collection Activities: Comment Request

The Social Security Administration (SSA) publishes a list of information collection packages that require clearance by the Office of Management and Budget (OMB) in compliance with Pub. L. 104-13, the Paperwork Reduction Act of 1995, effective October 1, 1995. The information collection packages included in this notice are for new information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or emailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

The information collections listed below have been submitted to OMB for clearance. Your comments on the information collections would be most useful if received by OMB and SSA within 30 days from the date of this publication. You can obtain a copy of the OMB clearance packages by e-mailing OPLM.RCO@ssa.gov.

1. Authorization for SSA to Disclose Tax Information for Your Appeal of Your Medicare Part B Income-Related Monthly Adjustment Premium Amount—20 CFR 418.1350-NEW. Medicare Part B beneficiaries who wish to appeal SSA's reconsideration of their Income-Related Monthly Adjustment Amount (IRMAA) must ensure that the relevant Internal Revenue Service (IRS) income tax data is made available to the Health and Human Services Administrative Law Judge (ALJ) who will consider their appeal. Currently, SSA is using IRS Form-8821 to obtain beneficiary authorization to disclose the IRS beneficiary tax data to the ALJ. With IRS's concurrence, SSA has developed its own form for this purpose, the SSA-54. The respondents are Medicare Part B recipients who want to appeal SSA's reconsideration of their IRMAA amount.

Type of Request: Revision to an existing OMB-approved information collection.

Type of Request: New information collection.

Number of Respondents: 6,000.

Frequency of Response: 1.

Average Burden Per Response: 15 minutes.

Estimated Annual Burden: 1,500 hours.

2. Race & Ethnicity Qualitative Research—0960-NEW. Collection Background. Currently, SSA has no reliable, statistically valid means of capturing race/ethnicity data in our core business process. While some Race/Ethnicity data is collected by Form SS-5, the Application for Social Security Card, it is not provided to SSA through other means of enumerating individuals; e.g., the Enumeration at Birth and Enumeration at Entry processes. Additionally, it is not collected during the disability application process. We believe that adding race/ethnicity as questions to SSA's applications for benefits will enable SSA to improve its administrative data. Consequently, we intend to collect this information in other SSA application processes. OMB mandated that Federal agencies collecting race and ethnicity information must use consistent standards established by OMB. We will follow the OMB standards when collecting our Race/Ethnicity data.

Race & Ethnicity Qualitative Research

Before SSA collects Race/Ethnicity data, we plan to conduct several voluntary focus groups with members of the public to assess their opinions, reactions and recommendations on a proposed form that will be used to collect the information. The questions and race and ethnicity categories will follow the standards developed by OMB. The information from this research will be used to develop a comprehensive collection form. The respondents are members of the public who volunteer to participate in the Race/Ethnicity questions focus groups.

Note: Please note that this Federal Register Notice is only for the Race and Ethnicity Quality Research focus groups. We will post a separate Federal Register Notice in the future for the actual Race and Ethnicity information collection.

Type of Request: New information collection.

Number of Respondents: 96 (8 focus groups, 12 participants).

Frequency of Response: 1.

Average Burden per Response: 90 minutes.

Estimated Annual Burden: 144 hours.

Dated: October 3, 2007.
Elizabeth A. Davidson,
Reports Clearance Officer, Social Security Administration.

[FR Doc. E7-19876 Filed 10-9-07; 8:45 am]

BILLING CODE 4191-02-P